DEPARTMENT OF VETERANS AFFAIRS

Advisory Committee on Tribal and Indian Affairs, Notice of Meeting, Amended

The Department of Veterans Affairs (VA) gives notice under the Federal Advisory Committee Act, 5 U.S.C. App. 2., that the Advisory Committee on Tribal and Indian Affairs will meet at the VA Central Office, 810 Vermont Avenue NW, C-7 Conference Center, Washington, DC on November 8, 9, and 10, 2022. The meeting sessions will begin, and end as follows:

Dates | Times
November 8, 2022 | 1:00 p.m.-4:00 p.m.—Eastern Standard Time (EST).
November 9, 2022 | 11:00 a.m.-4:00 p.m. EST.
November 10, 2022 | 10:00 a.m.-12:00 p.m. EST.

The Advisory Committee on Tribal and Indian Affairs meetings will be open to the public (virtually) during the meeting times listed.

The purpose of the Committee is to advise the Secretary on all matters relating to Indian tribes, tribal organizations, Native Hawaiian organizations, and Native American Veterans. This includes advising the Secretary on the administration of healthcare services and benefits to American Indians/Alaska Native and Native Hawaiian Veterans; thereby assessing those needs and whether VA is meeting them. The Advisory Committee on Tribal and Indian Affairs is a newly formed FACA Committee.

On November 8, 2022, from 1:00 p.m. to 4:00 p.m. EST, the agenda will include opening remarks from the Committee Chair, Executive Sponsor, and other VA officials. There will be updates and proposed recommendations from the health subcommittee.

On November 9, 2022, from 11:00 a.m. to 4:00 p.m. EST, the agenda will include updates from the benefits and administrative subcommittees for proposed recommendations from each of the subcommittees. From 2:45 p.m. to 3:30 p.m. there will be Public Comment from those public members who have provided a written summary.

On November 10, 2022, from 10:00 a.m. to 12 p.m. EST, the Committee will receive updates from the VA Office of Tribal Health. The committee will hold open discussion on topics relevant to the Committee and address follow-up and action items including dates for next meeting.

The meetings are open to the public (virtually) and will be recorded. Members of the public can attend the meeting by joining the Zoom meeting at the link below. The link will be active from 12:00 p.m.-4:00 p.m. on Tuesday, 11:00 a.m.-4:00 p.m. on Wednesday, and 10:00 a.m.-12:00 p.m. on Thursday, November 8-10, 2022.

Meeting Link: https://www.zoomgov.com/meeting/register/vJItcOmvpj0iE4NNl8171rq4-5GHvmMQHyk.

Individuals who speak are invited to submit a 1-2-page summary of their comments no later than October 31, 2022, for inclusion in the official meeting record. Members of the public may also submit written statements for the Committee's review to Mr. David Clay Ward, at david.ward@va.gov. Any member of the public seeking additional information should contact Mr. David Clay Ward at 202-461-7445.

Dated: October 25, 2022.
Jelessa M. Burney,
Federal Advisory Committee Management Officer.

[FR Doc. 2022-23501 Filed 10-27-22; 8:45 am]

BILLING CODE P